DEPARTMENT OF COMMERCE

National Oceanic and Atmospheric Administration

RIN 0648-XG514

Atlantic Highly Migratory Species; Atlantic Shark Management Measures; 2019 Research Fishery

AGENCY: National Marine Fisheries Service (NMFS), National Oceanic and Atmospheric Administration (NOAA), Commerce.

ACTION: Notice of public meeting.

SUMMARY: On November 1, 2018, NMFS published a notice inviting qualified commercial shark permit holders to submit applications to participate in the 2019 shark research fishery. The shark research fishery allows for the collection of fishery-dependent data for future stock assessments and cooperative research with commercial fishermen to meet the shark research objectives of the Agency. Every year, the permit terms and permitted activities (e.g., number of hooks and retention limits) specifically authorized for selected participants in the shark research fishery are designated depending on the scientific and research needs of the Agency, as well as the number of NMFS-approved observers available. In order to inform selected participants of this year's specific permit requirements and ensure all terms and conditions of the permit are met, NMFS is holding a mandatory meeting (via conference call) for selected participants. The date and time of that meeting is announced in this notice.

DATES: A conference call will be held on March 25, 2019.

ADDRESSES: A conference call will be conducted. See SUPPLEMENTARY INFORMATION for information on how to access the conference call.

FOR FURTHER INFORMATION CONTACT: Lauren Latchford at (301) 427-8503, or Delisse Ortiz at (240) 681-9037.

SUPPLEMENTARY INFORMATION: The Atlantic shark fisheries are managed under the authority of the Magnuson-Stevens Fishery Conservation and Management Act (Magnuson-Stevens Act). The 2006 Consolidated Highly Migratory species (HMS) Fishery Management Plan (FMP) is implemented by regulations at 50 CFR part 635.

The final rule for Amendment 2 to the 2006 Consolidated HMS FMP (73 FR 35778, June 24, 2008, corrected at 73 FR 40658, July 15, 2008) established, among other things, a shark research fishery to maintain time-series data for stock assessments and to meet NMFS' research objectives. The shark research fishery gathers important scientific data and allows selected commercial fishermen the opportunity to earn more revenue from selling the sharks caught, including sandbar sharks. Only the commercial shark fishermen selected to participate in the shark research fishery are authorized to land/harvest sandbar sharks subject to the sandbar quota available each year. The 2019 sandbar shark quota is 90.7 mt dw per year. The selected shark research fishery participants also have access to the research large coastal shark, small coastal shark, and pelagic shark quotas subject to retention limits and quotas per §§ 635.24 and 635.27, respectively.

On November 1, 2018 (83 FR 54917), NMFS published a notice inviting qualified commercial shark directed and incidental permit holders to submit an application to participate in the 2019 shark research fishery. NMFS received 11 applications and selected five participants. In order to inform selected participants of this year's specific permit requirements and to ensure all terms and conditions of the permit are met, per the requirements of § 635.32 (f)(4), NMFS is holding a mandatory permit holder meeting via conference call.

Conference Call Date, Time, and Dial-In Number

The conference call will be held on March 25, 2019, from 1:30 to 3:30 p.m. (EDT). Participants and interested parties should call 1-888-603-8940 and use the passcode 3680172. This call is mandatory for selected participants. Selected participants who do not attend will not be allowed to participate in the shark research fishery. While the conference call is mandatory for selected participants, other interested parties may call in and listen to the discussion. Selected participants are encouraged to invite their captain, crew, or anyone else who may assist them in meeting the terms and conditions of the shark research fishery permit.

Dated: March 13, 2019.
Karen H. Abrams,
Acting Director, Office of Sustainable Fisheries, National Marine Fisheries Service.

[FR Doc. 2019-04995 Filed 3-15-19; 8:45 am]

BILLING CODE 3510-22-P